DEPARTMENT OF ENERGY

Federal Energy Regulatory Commission

Combined Notice of Filings #1

Take notice that the Commission received the following electric corporate filings:

Docket Numbers: EC18-7-000.

Applicants: MDU Resources Group, Inc., Otter Tail Power Company.

Description: Request of MDU Resources Group, Inc., et al. for Approvals Pursuant to Section 203 of the Federal Power Act.

Filed Date: 10/24/17.

Accession Number: 20171024-5162.

Comments Due: 5 p.m. ET 11/14/17.

Docket Numbers: EC18-8-000.

Applicants: Otter Tail Power Company, MDU Resources Group, Inc.

Description: Request of MDU Resources Group, Inc., et al. for Approvals Pursuant to Section 203 of the Federal Power Act.

Filed Date: 10/24/17.

Accession Number: 20171024-5177.

Comments Due: 5 p.m. ET 11/14/17.

Take notice that the Commission received the following electric rate filings:

Docket Numbers: ER17-2099-000.

Applicants: Black Hills Power, Inc.

Description: Black Hills Power, Inc. submits tariff filing per 35.19a(b): Refund Report (ER17-2098-000, ER17-2099-000 & ER17-2100-000) to be effective N/A.

Filed Date: 10/24/17.

Accession Number: 20171024-5116.

Comments Due: 5 p.m. ET 11/14/17.

Docket Numbers: ER17-2197-002.

Applicants: Nevada Power Company.

Description: Tariff Amendment: Rate Schedule No. 155 NPC/CRC Agr. Response to FERC 102417 to be effective 10/1/2017.

Filed Date: 10/24/17.

Accession Number: 20171024-5137.

Comments Due: 5 p.m. ET 11/14/17.

Docket Numbers: ER18-137-001.

Applicants: PJM Interconnection, L.L.C.

Description: Tariff Amendment: Errata to 10/23/17 Filing of Revisions to MISO-PJM JOA re Overlapping Congestion to be effective 3/1/2018.

Filed Date: 10/24/17.

Accession Number: 20171024-5156.

Comments Due: 5 p.m. ET 11/14/17.

Docket Numbers: ER18-140-001.

Applicants: Lackawanna Energy Center LLC.

Description: Tariff Amendment: Supplement to Market-Based Rate Application to be effective 12/24/2017.

Filed Date: 10/24/17.

Accession Number: 20171024-5138.

Comments Due: 5 p.m. ET 11/14/17.

Docket Numbers: ER18-146-000.

Applicants: Midcontinent Independent System Operator, Inc.

Description: § 205(d) Rate Filing: 2017-10-24_MISO-SPP JOA Revisions to Market-to-Market Provisions to be effective 1/4/2018.

Filed Date: 10/24/17.

Accession Number: 20171024-5132.

Comments Due: 5 p.m. ET 11/14/17.

Docket Numbers: ER18-148-000.

Applicants: Midcontinent Independent System Operator, Inc.

Description: § 205(d) Rate Filing: 2017-10-24_SA 2946 MidAmerican-MidAmerican E&P (J498) Termination to be effective 10/25/2017.

Filed Date: 10/24/17.

Accession Number: 20171024-5134.

Comments Due: 5 p.m. ET 11/14/17.

Docket Numbers: ER18-149-000.

Applicants: Midcontinent Independent System Operator, Inc.

Description: § 205(d) Rate Filing: 2017-10-24_MISO-SPP JOA Clean-Up Revisions to Article XI and Attachment 3 to be effective 12/24/2017.

Filed Date: 10/24/17.

Accession Number: 20171024-5135.

Comments Due: 5 p.m. ET 11/14/17.

Docket Numbers: ER18-150-000.

Applicants: Southwest Power Pool, Inc.

Description: § 205(d) Rate Filing: SPP-MISO JOA Revisions to Market-to-Market Provisions to be effective 1/4/2018.

Filed Date: 10/24/17.

Accession Number: 20171024-5136.

Comments Due: 5 p.m. ET 11/14/17.

Docket Numbers: ER18-151-000.

Applicants: Southwest Power Pool, Inc.

Description: § 205(d) Rate Filing: SPP-MISO JOA Revisions to Article XI and Attachment 3 to be effective 12/24/2017.

Filed Date: 10/24/17.

Accession Number: 20171024-5139.

Comments Due: 5 p.m. ET 11/14/17.

Docket Numbers: ER18-152-000.

Applicants: Otter Tail Power Company, Montana-Dakota Utilities Co., NorthWestern Corporation.

Description: § 205(d) Rate Filing: Filing and Restatement of Coyote 1 Station Transmission Facilities Agreement to be effective 7/30/2010.

Filed Date: 10/24/17.

Accession Number: 20171024-5154.

Comments Due: 5 p.m. ET 11/14/17.

Docket Numbers: ER18-153-000.

Applicants: Otter Tail Power Company, NorthWestern Corporation, Montana-Dakota Utilities Co.

Description: § 205(d) Rate Filing: Filing and Restatement of Big Stone Plant Transmission Facilities Agreement to be effective 7/30/2010.

Filed Date: 10/24/17.

Accession Number: 20171024-5155.

Comments Due: 5 p.m. ET 11/14/17.

Docket Numbers: ER18-154-000.

Applicants: Southern California Edison Company.

Description: § 205(d) Rate Filing: SCE 2018 TRBAA Update to be effective 1/1/2018.

Filed Date: 10/24/17.

Accession Number: 20171024-5157.

Comments Due: 5 p.m. ET 11/14/17.

Docket Numbers: ER18-155-000.

Applicants: EnPowered.

Description: Baseline eTariff Filing: EnPowered USA, Inc. Market Based Rate Tariff to be effective 10/31/2017.

Filed Date: 10/25/17.

Accession Number: 20171025-5000.

Comments Due: 5 p.m. ET 11/15/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 25, 2017.
Nathaniel J. Davis, Sr.,
Deputy Secretary.

[FR Doc. 2017-23772 Filed 10-31-17; 8:45 am]

BILLING CODE 6717-01-P